DEPARTMENT OF COMMERCE

National Oceanic and Atmospheric Administration

15 CFR Part 902

50 CFR Part 660

[Docket No. 120614172-2395-01]

RIN 0648-BC29

Fisheries Off West Coast States; West Coast Salmon Fisheries; Announcing OMB Approval of Information Collection

AGENCY: National Marine Fisheries Service (NMFS), National Oceanic and Atmospheric Administration (NOAA), Commerce.

ACTION: Final rule; effective date of OMB control numbers.

SUMMARY: This rule provides notice of the approval by the Office of Management and Budget (OMB) and resulting effectiveness of the collection-of-information requirements published by NMFS on July 2, 1996. OMB approved the collection-of-information requirements in April 2001, and extended that approval in September 2001, November 2004, April 2008, and July 2011.

DATES: The amendments in this rule are effective October 25, 2012. The collection-of-information requirements in § 660.404, published on July 2, 1996 (61 FR 34570), are effective October 25, 2012. OMB approves the collection-of-information requirements in § 660.408, published on July 2, 1996 (61 FR 34570), as of October 25, 2012.

ADDRESSES: This final rule is also accessible on the Web site of NMFS' Northwest Region (http://www.nwr.noaa.gov). Written comments regarding the burden-hour estimates or other aspects of the collection-of-information requirements contained in this final rule may be submitted to William W. Stelle, Jr., Regional Administrator, Northwest Region, NMFS, 7600 Sand Point Way NE., Seattle, WA 98115-0070.

FOR FURTHER INFORMATION CONTACT: Peggy Mundy, Northwest Region Salmon Management Division, NMFS, 206-526-4323.

SUPPLEMENTARY INFORMATION: NMFS published a final rule on July 2, 1996 (61 FR 34570) that consolidated several parts of the Code of Federal Regulations (CFR) into a new CFR part 660 containing regulations for implementing management measures for fisheries operating in the exclusive economic zone (EEZ) off West Coast states. This new part 660 included a collection of information associated with recordkeeping and reporting requirements regulations at § 660.404 and § 660.408(o). This collection was previously associated with regulations at § 661.4 and § 661.20, under OMB control number 0648-0222. The 1996 rule stated that OMB approval under control number 0648-0222 had expired and that NMFS was in the process of obtaining OMB approval for the collection of information under the new regulations.

This final rule announces OMB approval and effectiveness of the collection of information associated with regulations at § 660.404 and § 660.408(o). Initial approval of these regulations in their current location in the Code of Federal regulations occurred on April 25, 2001 under OMB control number 048-0433. OMB extended this approval on September 28, 2001, November 29, 2004, April 8, 2008, and July 8, 2011. The current approval expires on July 31, 2014.

Classification

This rule makes effective a collection of information requirement subject to the Paperwork Reduction Act. The collection of this information has been approved by the Office of Management and Budget (OMB) under OMB Control Number 0648-433. Based on the management regime specified each year, designated regulatory areas in the commercial ocean salmon fishery off the coasts of Washington, Oregon, and California may be managed by numerical quotas. To accurately assess catches relative to quota attainment during the fishing season, catch data by regulatory area must be collected in a timely manner. The requirements to land salmon within specific time frames and in specific areas may be implemented in the preseason regulations to aid in timely and accurate catch accounting for a regulatory area. State landing systems normally gather the data at the time of landing. If unsafe weather conditions or mechanical problems prevent compliance with landing requirements, fishermen need an alternative to allow for a safe response. Fishermen would be exempt from landing requirements if the appropriate notifications are made to provide the name of the vessel, the port where delivery will be made, the approximate amount of salmon (by species) on board, and the estimated time of arrival. These reports are generally made via at-sea radio, cellular phone transmissions, or other electronic communication. The annual reporting burden to the public is estimated at 10 hours, based on an estimated 15 minutes per response.

Pursuant to 5 U.S.C. 553(b)(B), there is good cause to waive prior notice and opportunity for public comment for this action because notice and comment would be unnecessary and contrary to the public interest. This action simply provides notice of OMB's approval of the reporting requirements at issue, which has already occurred, and renders those requirements effective. Thus this action does not involve any further exercise of agency discretion and no comment received at this time would impact any decision by NOAA or OMB. In addition, the public has had the opportunity to comment on both the substance of the reporting requirements, at the time NOAA adopted them, and on NOAA's requests for extension of OMB's approval. The reporting requirements at issue were detailed in proposed rules on which NOAA accepted public comment. The reporting provisions in 50 CFR 660.404(a) were initially published at 49 FR 32414-01 (August 14, 1984), with comments accepted until September 21, 1984, and published as a final rule at 49 FR 43679-02 (October 31, 1984). The reporting provisions in 50 CFR 660.408(o) and 50 CFR 660.404 were initially published at 54 FR 11976-01 (March 23, 1989), with comments accepted until April 5, 1989, prior to publication of the final rule at 54 FR 19185-01 (May 4, 1989). NOAA published notice of and requested public comments on its requests for OMB's approval of the information collection and prior to each extension of OMB's approval (e.g., 66 FR 17147, March 29, 2001; 66 FR 28731, May 24, 2001; 69 FR 35331, June 24, 2004; 72 FR 33204, June 15, 2007; 76 FR 329, January 4, 2011). NOAA received no comments on the 2011 request for extension. An additional opportunity for public comment at this point would not be meaningful, and would be duplicative.

Because prior notice and opportunity for public comment are not required for this rule by 5 U.S.C. 553, or any other law, the analytical requirements of the Regulatory Flexibility Act, 5 U.S.C. 601 et seq., are inapplicable.

This final rule has been determined to be not significant for purposes of Executive Order 12866.

List of Subjects

15 CFR Part 902

Recordkeeping and reporting requirements.

50 CFR Part 660

Fisheries off west coast States.

Dated: September 11, 2012.
Alan D. Risenhoover,
Director, Office of Sustainable Fisheries, Performing the functions and duties of the Deputy Assistant Administrator for Regulatory Programs, National Marine Fisheries Service.

For the reasons set out in the preamble, 15 CFR part 902 and 50 CFR part 660 are amended as follows:

Title 15

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, the table in paragraph (b) under “50 CFR” is amended by removing the entries for 661.4 and 661.20, and by adding entries for 660.404 and 660.408 in numerical order to read as follows:

§ 902.1 OMB Control numbers assigned pursuant to the Paperwork Reduction Act.

* * * * *

(b) Display.

CFR part or section where the information collection requirement is located | Current OMB control number (All numbers begin with 0648-)
* * * * * * *
50 CFR |
* * * * * * *
660.404 | -0433
660.408 | -0433
* * * * * * *

PART 660—FISHERIES OFF WEST COAST STATES

3. The authority citation for part 660 continues to read as follows:

Authority: 16 U.S.C. 1801 et seq. and 16 U.S.C. 773 et seq.

§ 660.404 [Amended]

4. The collection-of-information requirements in § 660.404, published on July 2, 1996 (61 FR 34570), are effective October 25, 2012.

[FR Doc. 2012-22737 Filed 9-24-12; 8:45 am]

BILLING CODE 3510-22-P